NATIONAL AERONAUTICS AND SPACE ADMINISTRATION

48 CFR Parts 1852 and 1872

Broad Agency Announcements

AGENCY: National Aeronautics and Space Administration (NASA).

ACTION: Proposed rule.

SUMMARY: This is a proposed rule to amend the NASA FAR Supplement (NFS) to require consideration of safety and risk-based acquisition management (RBAM) in NASA's broad agency announcements (BAAs). Two types of BAAs used by NASA include the Announcement of Opportunity (AO) and the NASA Research Announcement (NRA).

DATES: Comments should be submitted on or before October 30, 2001.

ADDRESSES: Interested parties should submit written comments to Rex T. Elliott, NASA Headquarters, Office of Procurement, Analysis Division (Code HC), Washington, DC 20546. Comments may also be submitted by e-mail to relliott@hq.nasa.gov.

FOR FURTHER INFORMATION CONTACT: Rex Elliott, NASA, Office of Procurement, Analysis Division (Code HC), (202) 358-4418, or e-mail: relliott@hq.nasa.gov.

SUPPLEMENTARY INFORMATION:

A. Background

NASA recently made several changes to the NFS to address safety and RBAM in the acquisition planning processes for negotiated procurements. This proposed rule would make corresponding changes to the proposal preparation and evaluation processes for NRAs and AOs, allowing NASA to consider safety and RBAM as part of the proposal selection done under NASA's broad agency announcements. This change will ensure consistency in the way safety and RBAM are treated in all NASA acquisitions.

B. Regulatory Flexibility Act

NASA certifies that this proposed rule will not have a significant economic impact on a substantial number of small business entities under the Regulatory Flexibility Act (5 U.S.C. 601 et seq.) because it does not impose new requirements. Rather it focuses attention on safety and risk management which are inherent in any resultant effort under AO's and NRA's.

C. Paperwork Reduction Act

The Paperwork Reduction Act does not apply because the proposed changes to the NFS do not impose any record keeping or information collection requirements, or collections of information from offerors, contractors, or members of the public that require the approval of the Office of Management and Budget under 44 U.S.C. 3501, et seq.

List of Subjects in 48 CFR Parts 1852 and 1872

Government procurement.

Tom Luedtke,
Associate Administrator for Procurement.

Accordingly, 48 CFR Parts 1852 and 1872 are proposed to be amended as follows:

1. The authority citation for 48 CFR 1852 and 1872 continues to read as follows:

Authority: 42 U.S.C. 2473(c)(1).

PART 1852—SOLICITATION PROVISIONS AND CONTRACT CLAUSES

2. Amend the clause at section 1852.235-72 by revising the month and year of the clause, redesignating paragraph (c)(11)(ii) as (c)(11)(iii), and adding a new paragraph (c)(11)(ii) to read as follows:

1852.235-72 Instructions for Responding to NASA Research Announcements.

* * * * *

INSTRUCTIONS FOR RESPONDING TO NASA RESEARCH ANNOUNCEMENTS (XXXX)

* * * * *

(c) * * *

(11) * * *

(ii) Identify and discuss risk factors and issues throughout the proposal where they are relevant, and your approach to managing these risks.

* * * * *

PART 1872—ACQUISITION OF INVESTIGATIONS

3. Amend paragraph (b) of section 1872.303 by adding the words “Office of Safety and Mission Assurance,” immediately after “Office of General Counsel,”.

4. Amend section 1872.307 by adding the following sentence at the end of paragraph (b) to read as follows:

1872.307 Guidelines for proposal preparation.

* * * The investigator shall be required to identify and discuss risk factors and issues throughout the proposal where they are relevant, and describe the investigator's approach to managing these risks.

5. Amend section 1872.402 by redesignating paragraph (b)(7) as (b)(8), and adding a new paragraph (b)(7) to read as follows:

1872.402 Criteria for evaluation.

* * * * *

(b) * * *

(7) The proposed approach to managing risk (e.g. level of technology maturity being applied or developed, technical complexity, performance specifications and tolerances, delivery schedule, etc.).

* * * * *

6. Amend section 1872.705 by redesignating paragraphs II, III, IV, V, VI, VII, VIII and IX as III, IV, V, VI, VII, VIII, IX, and X respectively, and adding a new paragraph II to read as follows:

1872.705 Format of Announcement of Opportunity (AO).

* * * * *

II. NASA's Safety Priority.

Safety is the freedom from those conditions that can cause death, injury, occupational illness, damage to or loss of equipment or property, or damage to the environment. NASA's safety priority is to protect: (1) the public, (2) astronauts and pilots, (3) the NASA workforce (including NASA employees working under NASA instruments), and (4) high-value equipment and property.

* * * * *

[FR Doc. 01-21994 Filed 8-30-01; 8:45 am]

BILLING CODE 7510-01-P